COMMITTEE FOR PURCHASE FROM PEOPLE WHO ARE BLIND OR SEVERELY DISABLED

Procurement List; Additions

AGENCY: Committee for Purchase From People Who Are Blind or Severely Disabled.

ACTION: Additions to procurement list.

SUMMARY: This action adds to the Procurement List products and service to be furnished by nonprofit agencies employing persons who are blind or have other severe disabilities.

EFFECTIVE DATE: October 22, 2006.

ADDRESS: Committee for Purchase From People Who Are Blind or Severely Disabled,Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION: On July 28, 2006, the Committee for Purchase From People Who Are Blind or Severely Disabled published notice (71 FR42800) of proposed additions to the Procurement List.

After consideration of the material presented to it concerning capability of qualified nonprofit agencies to provide the products and service and impact of the additions on the current or most recent contractors, the Committee has determined that the products and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 46-48c) in connection with the products and service proposed for addition to the Procurement List.

End of Certification

Accordingly, the following products and service are added to the Procurement List:

Products

Product/NSN: Stainless Steel Scrubber—Metal Sponges

7920-00-926-5176

NPA: Beacon Lighthouse, Inc., Wichita Falls, Texas.

Contracting Activity: GSA, Southwest Supply Center, Fort Worth, Texas.

Product/NSN: Tool Kit, Highway Safety

5180-01-434-5068

NPA: Development Workshop, Inc., Idaho Falls, Idaho.

Contracting Activity: GSA, Federal Supply Service, Region 6, Kansas City, Missouri.

Service

Service Type/Location: Document Destruction, DOI Acquisition & Property Management Division,Building 22208,Auger Street, 2nd Floor,Fort Huachuca, Arizona.

NPA: Beacon Group SW, Inc., Tucson, Arizona.

Contracting Activity: DOI/NBC Acquisition & Property Management Division, Fort Huachuca, AZ.

This action does not affect current contracts awarded prior to the effective date of this addition or options that may be exercised under those contracts.

Sheryl D. Kennerly,
Director, Information Management.

[FR Doc. E6-15658 Filed 9-21-06; 8:45 am]

BILLING CODE 6353-01-P